DEPARTMENT OF HOMELAND SECURITY

Coast Guard

[Docket No. USCG-2025-0344]

Information Collection Request to Office of Management and Budget; OMB Control Number: 1625-0040

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting an extension of its approval for the following collection of information: 1625-0040, Applications for Merchant Mariner Credentials and Medical Certificates; with change. Our ICR describes the information we seek to collect from the public. Before submitting this ICR to OIRA, the Coast Guard is inviting comments as described below.

DATES: Comments must reach the Coast Guard on or before January 30, 2026.

ADDRESSES: You may submit comments identified by Coast Guard docket number [USCG-2025-0344] to the Coast Guard using the Federal eRulemaking Portal at https://www.regulations.gov. See the “Public participation and request for comments” portion of the SUPPLEMENTARY INFORMATION section for further instructions on submitting comments.

A copy of the ICR is available through the docket on the internet at https://www.regulations.gov. Additionally, copies are available from: COMMANDANT (CG-C5I-P), ATTN: PAPERWORK REDUCTION ACT MANAGER, U.S. COAST GUARD, 2703 MARTIN LUTHER KING JR. AVE SE, STOP 7710, WASHINGTON, DC 20593-7710.

FOR FURTHER INFORMATION CONTACT: A.L. Craig, Office of Privacy Management, telephone (571) 607-4058, or email hqs-dg-m-cg-61-pii@uscg.mil for questions on these documents.

SUPPLEMENTARY INFORMATION:

Public Participation and Request for Comments

This notice relies on the authority of the Paperwork Reduction Act of 1995; 44 U.S.C.., chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) the practical utility of the Collection; (2) the accuracy of the estimated burden of the Collection; (3) ways to enhance the quality, utility, and clarity of information subject to the Collection; and (4) ways to minimize the burden of the Collection on respondents, including the use of automated collection techniques or other forms of information technology.

In response to your comments, we may revise this ICR or decide not to seek an extension of approval for the Collection with change. We will consider all comments and material received during the comment period.

We encourage you to respond to this request by submitting comments and related materials. Comments must contain the OMB Control Number of the ICR and the docket number of this request, USCG-2025-0344, and must be received by January 30, 2026.

Submitting Comments

We encourage you to submit comments through the Federal eRulemaking Portal at https://www.regulations.gov. If your material cannot be submitted using https://www.regulations.gov, contact the person in the FOR FURTHER INFORMATION CONTACT section of this document for alternate instructions. Documents mentioned in this notice as being available in the docket, and all public comments, are in our online docket at https://www.regulations.gov and can be viewed by following that website's instructions. If you go to the online docket and sign up for email alerts, you will be notified when comments are posted.

We accept anonymous comments. Comments we post to https://www.regulations.gov will include any personal information you have provided. For more about privacy and submissions in response to this document, see DHS's eRulemaking System of Records notice (85 FR 14226, March 11, 2020).

Information Collection Request

Title: Applications for Merchant Mariner Credentials and Medical Certificates.

OMB Control Number: 1625-0040.

Summary: This information is necessary to determine competency, character and physical qualifications for the issuance of a Merchant Mariner Credential (MMC) or Medical Certificate.

Need: 46 CFR parts 10-13 and 16 detail the requirements for the issuance of an MMC or Medical Certificate.

Forms:

• CG-718A, Certificate of Discharge to Merchant Mariner.

• CG-719B, Application for Merchant Mariner Credential.

• CG-719C, Disclosure Statement for Narcotics, DWI/DUI, and/or Other Convictions.

• CG-719D, Application for Duplicate Merchant Mariner Credential and Medical Certificate.

• CG-719K, Application for Medical Certificate.

• CG-719K/E, Application for Medical Certificate, Short Form.

• CG-719P, DOT/USCG Periodic Drug Testing Form.

• CG-719S, Small Vessel Sea Service Form.

Basis for the change to the Forms: The majority of changes to the forms in this collection are not associated with new statutory or regulatory authority, but rather improvements to the flow and quality of content, user functionality, and to aid the Coast Guard in processing applications. The forms have undergone significant reorganization in response to recommendations from the National Merchant Mariner Medical Advisory Committee (NMEDMAC), the National Merchant Marine Personnel Advisory Committee (NMERPAC), and comments from the public provided at the NMEDMAC and NMERPAC public meetings. As an example, the wording, location and specificity of form instructions were revised to provide better clarity and to improve ease of use. Key instructions are now located within the corresponding section of the form to reduce the need for mariner applicants to flip back and forth between pages to search for instructions. This improvement is also expected to reduce processing delays caused by submission of incomplete forms. Another improvement is that these forms will now provide an option for applicants to sign the forms using an electronic signature. Finally, additional language was added to Criminal Record Review section of the CG-719B to clarify that mariners must disclose all convictions, including convictions for boating safety crimes. Additionally, for applicants without convictions who have used or been addicted to dangerous drugs, the CG-719B form now provides a place for them to list the drugs used without having to fill out a CG-719C.

Basis for the change for the addition of Forms to this collection: First, the Coast Guard is proposing to add a new optional form, the CG-719D, to provide a convenient option for individuals who want to request a duplicate merchant mariner credential or duplicate medical certificate. Second, the Coast Guard seeks comments on adding form CG-718A “Certificate of Discharge to Merchant Mariner” into this collection. Coast Guard personnel use form CG-718A to evaluate an applicant for an MMC. Form CG-718A was previously accounted for under OMB Control Number 1625-0012.

Respondents: Applicants for MMC, whether original, renewal, duplicate, raise of grade, or a new endorsement on a previously issued MMC. Applicants for Medical Certificates to include National and STCW credentialed mariners, and first-class pilots.

Frequency: On occasion.

Hour Burden Estimate: The estimated burden has decreased from 62,006 hours to 57,333 hours a year; due to a decrease in the estimated annual number of responses.

Authority: The Paperwork Reduction Act of 1995; 44 U.S.C. chapter 35, as amended.

Dated: November 26, 2025.
Bradley E. White,
(Acting) Chief, Office of Privacy Management, U.S. Coast Guard.

[FR Doc. 2025-21676 Filed 11-28-25; 8:45 am]

BILLING CODE 9110-04-P